DEPARTMENT OF THE TREASURY

Office of Thrift Supervision

PFF Bank & Trust, Pomona, CA; Notice of Appointment of Receiver

Notice is hereby given that, pursuant to the authority contained in section 5(d)(2) of the Home Owners' Loan Act, the Office of Thrift Supervision has duly appointed the Federal Deposit Insurance Corporation as sole Receiver for PFF Bank & Trust, Pomona, California (OTS No. 01450).

Dated: November 21, 2008.
By the Office of Thrift Supervision.
Sandra E. Evans,
Federal Register Liaison.

[FR Doc. E8-28484 Filed 12-2-08; 8:45 am]

BILLING CODE 6720-01-M